DEPARTMENT OF THE INTERIOR

Fish and Wildlife Service

[FWS-R9-IA-2012-N110; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before June 6, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Robert Eaves, McCamey, TX; PRT-66615A

The applicant requests a captive-bred wildlife registration under 50 CFR 17.21(g) for the scimitar-horned oryx (Oryx dammah), to enhance their propagation or survival. This notification covers activities to be conducted by the applicant over a 5-year period.

Applicant: Robert Eaves, McCamey, TX; PRT-66614A

The applicant requests a permit authorizing interstate and foreign commerce, export, and cull of excess scimitar-horned oryx (Oryx dammah) from the captive herd maintained at their facility, for the purpose of enhancement of the survival of the species. This notification covers activities to be conducted by the applicant over a 5-year period.

Applicant: Star B Property Co., Brownwood, TX; PRT-69575A

The applicant requests a captive-bred wildlife registration under 50 CFR 17.21(g) for the scimitar-horned oryx (Oryx dammah), to enhance their propagation or survival. This notification covers activities to be conducted by the applicant over a 5-year period.

Applicant: Star B Property Co., Brownwood, TX; PRT-69576A

The applicant requests a permit authorizing interstate and foreign commerce, export, and cull of excess scimitar-horned oryx (Oryx dammah) from the captive herd maintained at their facility, for the purpose of enhancement of the survival of the species. This notification covers activities to be conducted by the applicant over a 5-year period.

Applicant: Canyon Exotic Game Ranch LLC, Strawn, TX; PRT-71353A

The applicant requests a captive-bred wildlife registration under 50 CFR 17.21(g) for the dama gazelle (Nanger dama), to enhance their propagation or survival. This notification covers activities to be conducted by the applicant over a 5-year period.

Applicant: Canyon Exotic Game Ranch LLC, Strawn, TX; PRT-71354A

The applicant requests a permit authorizing interstate and foreign commerce, export, and cull of excess dama gazelle (Nanger dama), from the captive herd maintained at their facility, for the purpose of enhancement of the survival of the species. This notification covers activities to be conducted by the applicant over a 5-year period.

Applicant: Blex Exchange III LP, Somervile, TX; PRT-71823A

The applicant requests a captive-bred wildlife registration under 50 CFR 17.21(g) for the addax (Addax nasomaculatus), and dama gazelle (Nanger dama), to enhance their propagation or survival. This notification covers activities to be conducted by the applicant over a 5-year period.

Applicant: Hays City Ranch, Driftwood, TX; PRT-72328A

The applicant requests a permit authorizing interstate and foreign commerce, export, and cull of excess scimitar-horned oryx (Oryx dammah) from the captive herd maintained at their facility, for the purpose of enhancement of the survival of the species. This notification covers activities to be conducted by the applicant over a 5-year period.

Applicant: W.B. Stagecoach Ranch, LLC, George West, TX; PRT-72653A

The applicant requests a captive-bred wildlife registration under 50 CFR 17.21(g) for the scimitar-horned oryx (Oryx dammah), to enhance their propagation or survival. This notification covers activities to be conducted by the applicant over a 5-year period.

Applicant: W.B. Stagecoach Ranch, LLC, George West, TX; PRT-72654A

The applicant requests a permit authorizing interstate and foreign commerce, export, and cull of excess scimitar-horned oryx (Oryx dammah) from the captive herd maintained at their facility, for the purpose of enhancement of the survival of the species. This notification covers activities to be conducted by the applicant over a 5-year period.

Applicant: Ripley's Aquarium, LLC, Gatlinburg, TN; PRT-72630A

The applicant requests a captive-bred wildlife registration under 50 CFR 17.21(g) for the jackass penguin (Spheniscus demersus), to enhance their propagation or survival. This notification covers activities to be conducted by the applicant over a 5-year period.

Applicant: Micke Grove Zoo, Lodi, CA; PRT-723430

The applicant requests renewal of their captive-bred wildlife registration under 50 CFR 17.21(g) for the following families, genus, and species, to enhance their propagation or survival. This notification covers activities to be conducted by the applicant over a 5-year period.

Families:

Cebidae

Cervidae

Hylobatidae

Lemuridae

Pteropodidae

Suidae

Cracidae

Psittacidae (does not include thick-billed parrot)

Sturnidae (does not include Aplonis pelzelni)

Testudinidae

Boidae

Genera:

Panthera

Tragopan

Species:

snow leopard (Uncia uncia)

black-footed cat (Felis nigripes)

Chinese alligator (Alligator sinensis)

Applicant: Charles Musgrave, Pilot Point, TX; PRT-816624

The applicant requests renewal of their captive-bred wildlife registration under 50 CFR 17.21(g) for the radiated tortoise (Astrochelys radiata) and Galapagos tortoise (Chelonoidis nigra), to enhance their propagation or survival. This notification covers activities to be conducted by the applicant over a 5-year period.

Applicant: Virginia Safari Park & Preservation Center, Inc., Natural Bridge, VA; PRT-213382

The applicant requests renewal of their captive-bred wildlife registration under 50 CFR 17.21(g) for the following families, genus, and species, to enhance their propagation or survival. This notification covers activities to be conducted by the applicant over a 5-year period.

Species:

Parma wallaby (Macropus parma)

ring-tailed lemur (Lemur catta)

black-and-white ruffed lemur (Varecia variegata)

brown lemur (Eulemur fulvus)

black lemur (Eulemur macaco)

cottontop tamarin (Saguinus oedipus)

Diana monkey (Cercopithecus diana)

mandrill (Mandrillus sphinx)

lar gibbon (Hylobates lar)

siamang (Symphalangus syndactylus)

snow leopard (Uncia uncia)

leopard (Panthera pardus)

cheetah (Acinonyx jubatus)

South American tapir (Tapirus terrestris)

Baird's tapir (Tapirus bairdii)

African wild ass (Equus africanus)

Asian wild ass (Equus hemionus)

Przewalski's horse (Equus przewalskii)

Grevy's zebra (Equus grevyi)

Eld's deer (Rucervus eldii)

barasingha (Rucervus duvaucelii)

Formosan sika deer (Cervus nippon taiouanus)

bontebok (Damaliscus pygargus pygargus)

addax (Addax nasomaculatus)

red lechwe (Kobus leche)

scimitar-horned oryx (Oryx dammah)

Arabian oryx (Oryx leucoryx)

dama gazelle (Nanger dama)

slender-horned gazelle (Gazella leptoceros)

anoa (Bubalus depressicornis)

selandang (Bos gaurus)

banteng (Bos javanicus)

hooded crane (Grus monacha)

white-naped crane (Grus vipio)

golden parakeet (Guarouba guarouba)

Galapagos tortoise (Chelonoidis nigra)

radiated tortoise (Astrochelys radiata)

Applicant: Wild Acres Ranch, Sandusky, OH; PRT-15387A

The applicant requests amendment of their captive-bred wildlife registration under 50 CFR 17.21(g) to include red ruffed lemur (Varecia rubra), black lemur (Eulemur macaco), scimitar-horned oryx (Oryx dammah), addax (Addax nasomaculatus), and dama gazelle (Nanger dama), to enhance their propagation or survival. This notification covers activities to be conducted by the applicant over a 5-year period.

Applicant: Jerad Dabney, Beaumont, TX; PRT-72265A

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2012-10858 Filed 5-4-12; 8:45 am]

BILLING CODE 4310-55-P